DEPARTMENT OF TRANSPORTATION

Federal Aviation Administration

14 CFR Part 71

[Docket No. FAA-2023-2326; Airspace Docket No. 23-AGL-21]

RIN 2120-AA66

Amendment of VOR Federal Airways V-13, V-133, and V-300, and United States RNAV Route T-331; Establishment of Canadian RNAV Routes Q-924, T-765, T-776, and T-810; and Revocation of Jet Route J-533 and VOR Federal Airway V-348; Northcentral United States

AGENCY: Federal Aviation Administration (FAA), DOT.

ACTION: Final rule.

SUMMARY: This action amends Very High Frequency Omnidirectional Range (VOR) Federal Airways V-13, V-133, and V-300, and United States (U.S.) Area Navigation (RNAV) Route T-331; establishes Canadian RNAV Routes Q-924, T-765, T-776, and T-810 in U.S. airspace; and revokes Jet Route J-533 and VOR Federal Airway V-348. The FAA is taking this action due to the planned decommissioning of the Thunder Bay, Ontario (ON), Canada, VOR navigational aid (NAVAID). This action supports NAV CANADA's NAVAID Modernization Program within Canada.

DATES: Effective date 0901 UTC, September 5, 2024. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Air Traffic Service (ATS) route structure as necessary to preserve the safe and efficient flow of air traffic within the National Airspace System.

History

The FAA published a notice of proposed rulemaking for Docket No. FAA-2023-2326 in the Federal Register (88 FR 85519; December 8, 2023), proposing to amend VOR Federal Airways V-13, V-133, and V-300, and RNAV Route T-331; establish Canadian RNAV Routes Q-924, T-765, T-776, and T-810 in U.S. airspace; and revoke Jet Route J-533 and VOR Federal Airway V-348 due to the planned decommissioning of the Thunder Bay, ON, Canada, VOR NAVAID. Interested parties were invited to participate in this rulemaking effort by submitting written comments on the proposal. No comments were received.

Differences From the NPRM

After publishing the NPRM in the Federal Register, the FAA identified an error in the V-300 proposed amendment discussed in The Proposal section of the preamble. In the paragraph addressing V-300 amendments, it stated the FAA proposed to remove the airway segment between the Victoria VOR/Distance Measuring Equipment (VOR/DME) and the Vancouver VOR/DME to match the airway segment removal action NAV CANADA is taking. However, at the end of the paragraph, it stated that as amended, the airway would be changed to extend between the Victoria VOR/DME and the Vancouver VOR/DME, in error. This action removes the V-300 airway segment between the Victoria VOR/DME and the Vancouver VOR/DME as it was published in the proposed regulatory text of the NPRM and is corrected in this final rule.

The FAA also identified an error in the proposed Canadian RNAV Route T-810 description in the proposed regulatory text of the NPRM. The CATGA, MI, Waypoint (WP) listed in the T-810 description incorrectly listed the latitude geographic coordinate for the WP as “lat. 46°28′11.51″ N.” The correct latitude coordinate information for the CATGA WP is “lat. 46°28′11.52″ N” This action corrects the CATGA WP latitude geographic coordinate listed in the Canadian RNAV Route T-810 description in this final rule.

Additionally, subsequent publication of the NPRM, the FAA published a NPRM for Docket No. FAA-2023-2493 in the Federal Register (89 FR 1851; January 11, 2024), that also proposed to establish two Canadian RNAV Route T-765 segments in U.S. airspace due to NAV CANADA's planned decommissioning of the Winnipeg, Manitoba (MB), Canada, VOR/Tactical Air Navigation (VORTAC) NAVAID. No substantive comments to that NPRM were received. The T-765 route segments in that action were to mitigate the removal of the VOR Federal Airway V-161 segments affected by the Winnipeg VORTAC decommissioning and to provide route continuity and cross border connectivity with the T-765 route segments being established by NAV CANADA within Canadian airspace. The FAA has decided to establish all of the proposed Canadian RNAV Route T-765 segments in a single docket action and selected Docket No. FAA-2023-2326 to accomplish that. Therefore, the T-765 route segment actions proposed in Docket No. FAA-2023-2493 have been removed from that docket and are included in this final rule.

Finally, prior to the NPRM, the FAA published a rule for Docket No. FAA-2023-0501 in the Federal Register (88 FR 30896; May 15, 2023), amending RNAV Route T-331 by renaming the Squaw Valley, CA, VOR/DME route point to become the Palisades, CA, VOR/DME. That editorial amendment, effective August 10, 2023, did not affect the T-331 route alignment or structure. In the NPRM for this action, the T-331 Palisades, CA, VOR/DME route point was incorrectly listed as the Squaw Valley, CA, VOR/DME. This rule corrects that error by listing the affected T-331 route point as the Palisades VOR/DME.

Incorporation by Reference

Jet Routes are published in paragraph 2004, Canadian Area Navigation Routes (Q-routes) are published in paragraph 2007, VOR Federal Airways are published in paragraph 6010(a), United States Area Navigation Routes (T-routes) are published in paragraph 6011, and Canadian Area Navigation Routes (T-routes) are published in paragraph 6013 of FAA Order JO 7400.11, Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. These amendments will be published in the next update to FAA Order JO 7400.11.

FAA Order JO 7400.11H lists Class A, B, C, D, and E airspace areas, air traffic service routes, and reporting points.

The Rule

This action amends 14 CFR part 71 by amending VOR Federal Airways V-13, V-133, and V-300, and United States RNAV Route T-331; establishing Canadian RNAV Routes Q-924, T-765, T-776, and T-810 in U.S. airspace; and revoking Jet Route J-533 and VOR Federal Airway V-348. This action is being taken due to the planned decommissioning of the Thunder Bay, ON, Canada, VOR by NAV CANADA in support of their NAVAID Modernization Program. The ATS route actions are described below.

J-533: Prior to this final rule, J-533 extended between the Duluth, MN, VORTAC and the U.S./Canada border via the Duluth to Thunder Bay, ON, direct radial. The Jet Route is removed in its entirety.

Q-924: Q-924 is a new Canadian RNAV route established within U.S. airspace extending between the Duluth, MN, VORTAC and the BEKRR, MI, WP that replaces the “MPCEG” Computer Navigation Fix (CNF) on the U.S./Canada border. The new RNAV route mitigates the J-533 revocation and provides route continuity and cross-border connectivity with the Q-924 route segment being established by NAV CANADA within Canadian airspace.

V-13: Prior to this final rule, V-13 extended between the Mc Allen, TX, VOR/DME and the Razorback, AR, VORTAC; between the Butler, MO, VORTAC and the Farmington, MN, VORTAC; and between the Duluth, MN, VORTAC and the Thunder Bay, ON, Canada, VOR/DME, excluding the airspace outside the United States. The airway segment between the Duluth VORTAC and the Thunder Bay VOR/DME is removed. As amended, the airway is changed to now extend between the Mc Allen VOR/DME and the Razorback VORTAC, and between the Butler VORTAC and the Farmington VORTAC.

V-133: Prior to this final rule, V-133 extended between the intersection of the Charlotte, NC, VOR/DME 305° and Barretts Mountain, NC, VOR/DME 197° radials (LINCO Fix) and the Zanesville, OH, VOR/DME; and between the Saginaw, MI, VOR/DME and the Red Lake, ON, Canada, VOR, excluding the airspace within Canada. The airway segment between the Houghton, MI, VOR/DME and the International Falls, MN, VOR/DME is removed. As amended, the airway is changed to now extend between the Charlotte VOR/DME 305° and Barretts Mountain VOR/DME 197° radials (LINCO Fix) and the Zanesville VOR/DME, between the Saginaw VOR/DME and the Houghton VOR/DME, and between the International Falls VOR/DME and the Red Lake, ON, VOR. The airspace within Canada continues to be excluded.

V-300: Prior to this final rule, V-300 extended between the Victoria, British Columbia (BC), Canada, VOR/DME and the Vancouver, BC, Canada, VOR/DME; between the Thunder Bay, ON, Canada, VOR/DME and the Wiarton, ON, Canada, VOR/DME; and between the Sherbrooke, Quebec (PQ), Canada, VOR and the Fredericton, New Brunswick (NB), Canada, VORTAC, excluding the airspace within Canada. The airway segment between the Thunder Bay VOR/DME and the Sault Ste Marie, MI, VOR/DME is removed. Additionally, the airway segment between the Victoria VOR/DME and the Vancouver VOR/DME is removed to match the airway segment removal action NAV CANADA took and was effective November 30, 2023. Finally, the airway segment between the Sherbrooke VOR and the Fredericton VORTAC is removed due to NAV CANADA's actions removing the segments west and east of the portion of the airway segment within U.S. airspace and the previously existing cross-border connectivity no longer provided. As amended, the airway is changed to now extend between the Sault Ste Marie VOR/DME and the Wiarton, ON, VOR/DME. The airspace within Canada continues to be excluded.

V-348: Prior to this final rule, V-348 extended between the Thunder Bay, ON, Canada VOR/DME and the Sudbury, ON, Canada VOR, excluding the airspace within Canada. The airway segment between the Thunder Bay VOR/DME and the Sault Ste Marie, MI, VOR/DME is removed due to the planned decommissioning of the Thunder Bay VOR. Additionally, the airway segment between the Sault Ste Marie VOR/DME and the Sudbury VOR is removed due to the Sudbury VOR having been decommissioned by NAV CANADA in 2021. The airway is removed in its entirety.

T-331: Prior to this final rule, T-331 extended between the FRAME, CA, Fix and the MECNU, MN, Fix. The route is extended northward to the BEKRR, MN, WP that replaces the “CFGDB” CNF on the U.S./Canada border and the MECNU Fix route point is removed from the route description. The MECNU Fix will remain charted and appear to be on the route but will not be listed as a route point in the part 71 route description. As amended, the route is changed to now extend between the FRAME Fix and the BEKRR WP and provides mitigation for the V-13 airway segment removal.

T-765: T-765 is a new Canadian RNAV route established within U.S. airspace extending between the Houghton, MI, VOR/DME and the BBLUE, MI, WP that replaces the “KJDRS” CNF on the U.S./Canada border; between the ASIXX, MN, WP that replaces the “KJDPL” CNF on the U.S./Canada border and the KORTY, MN, WP that replaces the “CFFQV” CNF on the U.S./Canada border, via the International Falls, MN, VOR/DME; and between the LCROS, MN, WP that replaces the “CFXDP” CNF on the U.S./Canada border and the CALDU, MN, WP that replaces the “CFZMG” CNF on the U.S./Canada border. The new RNAV route mitigates the V-133 airway segment removal due to the Thunder Bay VOR being decommissioned and the V-161 airway segment removal due to the Winnipeg, MB, Canada VORTAC being decommissioned as discussed in the Differences from the NPRM section. The new RNAV Route, T-765, segments in U.S. airspace provide route continuity and cross-border connectivity with the T-765 route segments being established by NAV CANADA within Canadian airspace.

T-776: T-776 is a new Canadian RNAV route established within U.S. airspace extending between the KAYCY, MI, WP that replaces the “CFZSV” CNF on the U.S./Canada border and the KMNGO, MI, WP that replaces the “CFXKN” CNF on the U.S./Canada border; between the NCOLY, MI, WP that replaces the “CWSKQ” CNF on the U.S./Canada border and the RRBEE, MI, WP that replaces the “KJSCR” CNF on the U.S./Canada border; and between the SKOWT, MI, WP that replaces the “KJSTL” CNF on the U.S./Canada border and the Sault Ste Marie, MI, VOR/DME. The new RNAV route mitigates the V-348 revocation and provides route continuity and cross-border connectivity with the T-776 route segments being established by NAV CANADA within Canadian airspace.

T-810: T-810 is a new Canadian RNAV route established within U.S. airspace extending between the BERDD, MI, WP that replaces the “KJNGG” CNF on the U.S./Canada border and the JEORG, MI, WP that replaces the “CFKJR” CNF on the U.S./Canada border; and between the CATGA, MI, WP that replaces the CATGA, MI, Fix on the U.S./Canada border and the Sault Ste Marie, MI, VOR/DME. The new RNAV route mitigates the V-300 airway segment removal and provides route continuity and cross-border connectivity with the T-810 route segments being established by NAV CANADA within Canadian airspace.

The NAVAID radials listed in the VOR Federal airway descriptions in the regulatory text of this final rule are unchanged and stated in degrees True north.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5i, which categorically excludes from further environmental impact review the establishment of new or revised air traffic control procedures conducted at 3,000 feet or more above ground level (AGL); procedures conducted below 3,000 feet AGL that do not cause traffic to be routinely routed over noise sensitive areas; modifications to currently approved procedures conducted below 3,000 feet AGL that do not significantly increase noise over noise sensitive areas; and increases in minimum altitudes and landing minima. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 2004 Jet Routes.

* * * * *

J-533 [Removed]

* * * * *

Paragraph 2007 Canadian Area Navigation Routes.

* * * * *

Q-924 Duluth, MN (DLH) to BEKRR, MN [New]
Duluth, MN (DLH) | VORTAC | (Lat. 46°48′07.79″ N, long. 092°12′ 10.33″ W).
BEKRR, MN | WP | (Lat. 48°00′25.78″ N, long. 089°55′ 39.40″ W).

* * * * *

Paragraph 6010(a) VOR Federal Airways.

* * * * *

V-13 [Amended]

From Mc Allen, TX; INT Mc Allen 060° radial and Corpus Christi, TX, 178° radials; Corpus Christi; INT Corpus Christi 039° and Palacios, TX, 241° radials; Palacios; Humble, TX; Lufkin, TX; Belcher, LA; Texarkana, AR; Rich Mountain, OK; Fort Smith, AR; INT Fort Smith 006° and Razorback, AR, 190° radials; to Razorback. From Butler, MO; Napoleon, MO; Lamoni, IA; Des Moines, IA; Mason City, IA; to Farmington, MN.

* * * * *

V-133 [Amended]

From INT Charlotte, NC, 305° and Barretts Mountain, NC, 197° radials; Barretts Mountain; Charleston, WV; to Zanesville, OH. From Saginaw, MI; Traverse City, MI; Escanaba, MI; Sawyer, MI; to Houghton, MI. From International Falls, MN; to Red Lake, ON, Canada. The airspace within Canada is excluded.

* * * * *

V-300 [Amended]

From Sault Ste Marie, MI; to Wiarton, ON, Canada. The airspace within Canada is excluded.

* * * * *

* * * * *

V-348 [Removed]

* * * * *

Paragraph 6011 United States Area Navigation Routes.

* * * * *

T-331 FRAME, CA to BEKRR, MN [Amended]
FRAME, CA | FIX | (Lat. 36°36′46.74″ N, long. 119°40′25.53″ W)
NTELL, CA | WP | (Lat. 36°53′58.99″ N, long. 119°53′22.21″ W)
KARNN, CA | FIX | (Lat. 37°09′03.79″ N, long. 121°16′45.22″ W)
VINCO, CA | FIX | (Lat. 37°22′35.11″ N, long. 121°42′59.52″ W)
NORCL, CA | WP | (Lat. 37°31′02.66″ N, long. 121°43′10.60″ W)
MOVDD, CA | WP | (Lat. 37°39′40.88″ N, long. 121°26′53.53″ W)
EVETT, CA | WP | (Lat. 38°00′36.11″ N, long. 121°07′48.14″ W)
TIPRE, CA | WP | (Lat. 38°12′21.00″ N, long. 121°02′09.00″ W)
Palisades, CA (SWR) | VOR/DME | (Lat. 39°10′49.16″ N, long. 120°16′10.60″ W)
TRUCK, CA | FIX | (Lat. 39°26′15.67″ N, long. 120°09′42.48″ W)
Mustang, NV (FMG) | VORTAC | (Lat. 39°31′52.60″ N, long. 119°39′21.87″ W)
Lovelock, NV (LLC) | VORTAC | (Lat. 40°07′30.95″ N, long. 118°34′39.34″ W)
Battle Mountain, NV (BAM) | VORTAC | (Lat. 40°34′08.69″ N, long. 116°55′20.12″ W)
TULIE, ID | WP | (Lat. 42°37′58.49″ N, long. 113°06′44.54″ W)
AMFAL, ID | WP | (Lat. 42°45′56.67″ N, long. 112°50′04.64″ W)
Pocatello, ID (PIH) | VOR/DME | (Lat. 42°52′13.38″ N, long. 112°39′08.05″ W)
VIPUC, ID | FIX | (Lat. 43°21′09.64″ N, long. 112°14′44.08″ W)
Idaho Falls, ID (IDA) | VOR/DME | (Lat. 43°31′08.42″ N, long. 112°03′50.10″ W)
SABAT, ID | FIX | (Lat. 44°00′59.71″ N, long. 111°39′55.04″ W)
Billings, MT (BIL) | VORTAC | (Lat. 45°48′30.81″ N, long. 108°37′28.73″ W)
EXADE, MT | FIX | (Lat. 47°35′56.78″ N, long. 104°32′40.61″ W)
JEKOK, ND | WP | (Lat. 47°59′31.05″ N, long. 103°27′17.51″ W)
FONIA, ND | FIX | (Lat. 48°15′35.07″ N, long. 103°10′37.54″ W)
Minot, ND (MOT) | VOR/DME | (Lat. 48°15′37.21″ N, long. 101°17′13.46″ W)
GICHI, ND | WP | (Lat. 48°06′54.20″ N, long. 098°54′45.14″ W)
Grand Forks, ND (GFK) | VOR/DME | (Lat. 47°57′17.40″ N, long. 097°11′07.33″ W)
Thief River Falls, MN (TVF) | VOR/DME | (Lat. 48°04′09.53″ N, long. 096°11′11.31″ W)
BLUOX, MN | FIX | (Lat. 47°34′33.13″ N, long. 095°01′29.11″ W)
Duluth, MN (DLH) | VORTAC | (Lat. 46°48′07.79″ N, long. 092°12′10.33″ W)
BEKRR, MN | WP | (Lat. 48°00′25.78″ N, long. 089°55′39.40″ W)

* * * * *

Paragraph 6013 Canadian Area Navigation Routes.

* * * * *

T-765 Houghton, MI (CMX) to CALDU, MN [New]
Houghton, MI (CMX) | VOR/DME | (Lat. 47°10′12.94″ N, long. 088°29′07.41″ W)
BBLUE, MI | WP | (Lat. 48°01′10.44″ N, long. 089°13′39.22″ W)
and
ASIXX, MN | WP | (Lat. 48°30′56.17″ N, long. 092°37′34.98″ W)
International Falls, MN (INL) | VOR/DME | (Lat. 48°33′56.87″ N, long. 093°24′20.44″ W)
KORTY, MN | WP | (Lat. 48°35′20.54″ N, long. 093°27′59.55″ W)
and
LCROS, MN | WP | (Lat. 49°03′44.39″ N, long. 094°44′18.17″ W)
CALDU, MN | WP | (Lat. 49°12′42.53″ N, long. 095°09′11.89″ W)

* * * * *

T-776 KAYCY, MI to Sault Ste Marie, MI [New]
KAYCY, MI | WP | (Lat. 48°10′13.28″ N, long. 088°51′36.53″ W)
KMNGO, MI | WP | (Lat. 47°57′14.09″ N, long. 087°27′15.24″ W)
and
NCOLY, MI | WP | (Lat. 47°01′58.21″ N, long. 085°11′47.29″ W)
RRBEE, MI | WP | (Lat. 46°45′54.88″ N, long. 084°48′45.86″ W)
and
SKOWT, MI | WP | (Lat. 46°29′46.17″ N, long. 084°25′57.74″ W)
Sault Ste Marie, MI (SSM) | VOR/DME | (Lat. 46°24′43.60″ N, long. 084°18′53.54″ W)

* * * * *

T-810 BERDD, MI to Sault Ste Marie (SSM) [New]
BERDD, MI | WP | (Lat. 48°06′41.75″ N, long. 089°00′14.29″ W)
AVALE, MI | FIX | (Lat. 46°44′02.48″ N, long. 085°07′59.96″ W)
SRADE, MI | FIX | (Lat. 46°39′29.38″ N, long. 084°56′42.98″ W)
JEORG, MI | WP | (Lat. 46°32′50.81″ N, long. 084°39′34.39″ W)
and
CATGA, MI | WP | (Lat. 46°28′11.52″ N, long. 084°27′41.15″ W)
Sault Ste Marie, MI (SSM) | VOR/DME | (Lat. 46°24′43.60″ N, long. 084°18′53.54″ W)

Issued in Washington, DC, on June 11, 2024.
Frank Lias,
Manager, Rules and Regulations Group.

[FR Doc. 2024-13178 Filed 6-17-24; 8:45 am]

BILLING CODE 4910-13-P